DEPARTMENT OF AGRICULTURE

National Agricultural Statistics Service

Notice of Intent To Seek Approval To Reinstate an Information Collection

AGENCY: National Agricultural Statistics Service, USDA.

ACTION: Notice and request for comments.

SUMMARY: In accordance with the Paperwork Reduction Act of 1995, this notice announces the intention of the National Agricultural Statistics Service (NASS) to seek reinstatement of an information collection, the 2024 Tenure, Ownership and Transition of Agricultural Land (TOTAL) survey.

DATES: Comments on this notice must be received by May 6, 2024 to be assured of consideration.

ADDRESSES: You may submit comments, identified by docket number 0535-0240, 2024 TOTAL, by any of the following methods:

• Email: ombofficer@nass.usda.gov. Include docket number above in the subject line of the message.

• Fax: (202) 720-6396.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336, South Building, 1400 Independence Avenue SW, Washington, DC 20250-2024.

FOR FURTHER INFORMATION CONTACT: Joseph L. Parsons, Associate Administrator, National Agricultural Statistics Service, U.S. Department of Agriculture, (202) 720-4333. Copies of this information collection and related instructions can be obtained without charge from Richard Hopper, NASS Clearance Officer, at (202) 720-2206.

SUPPLEMENTARY INFORMATION:

Title: 2024 Tenure, Ownership and Transition of Agricultural Land (TOTAL) Survey.

OMB Control Number: 0535-0240.

Type of Request: Intent to Seek Reinstatement of an Information Collection.

Abstract: The National Agricultural Statistics Service (NASS) of the United States Department of Agriculture (USDA) will request approval from the Office of Management and Budget (OMB) for the 2024 Tenure, Ownership and Transition of Agricultural Land (TOTAL) surveys to be conducted as follow-on surveys to the 2022 Census of Agriculture and are authorized by the Food, Conservation, and Energy Act of 2008 as amended.

The 2024 TOTAL surveys will be conducted in 2025, referencing the calendar year of 2024. In 2025 the Agricultural Resource Management Survey (ARMS) Phase 3 (OMB # 0535-0275) will be suspended for a period of one year. The scope of the TOTAL survey is greater than that of the ARMS 3 survey. To maintain the ARMS 3 data series, data will be gleaned from the TOTAL surveys to replace the 2024 ARMS 3 data collection.

The TOTAL survey will be conducted in two phases. The first phase will be the creation of a list of land owners who rent out land for agricultural purposes. These landlords will be excluded from the sample if they are also active farm or ranch operators as these entities are part of the phase II version 1 sampling population discussed below. The area segments that are used during the June Area Survey (OMB # 0535-0213) will be used as the target areas. NASS will compare the land inside these segments with land ownership data from the Farm Services Agency (FSA) along with property tax information purchased from CoreLogic (a privately owned company). After the removal of any duplication within this list NASS will have the target sample for the Landlord only version of the survey which will be conducted in Phase II. The current NASS List Frame of known farmers and ranchers will be used to create the sample for the Operator version of the survey. No list building will be conducted in Phase I for the operator questionnaire.

The second phase of the survey will include data collection and reporting using two versions of the TOTAL questionnaires. Version 1 of the TOTAL survey will target farm and ranch operators in all 50 States. The sample will be drawn from a list of all known farming operations that sold at least $1,000 in agricultural products in 2024. The stratified sample will be representative of the farm operator population. The sample will be large enough to publish State level data for the 25 largest agricultural producing States based on value of sales. These 25 core States account for a significant amount of the total value of agricultural products produced in the three-year period of 2020-2022. Version 2 of the TOTAL survey will target individuals who own and rent out farm land in all 50 States. Individuals who are both farm operators and landlords will be excluded from the Version 2 sample since they are included in the Version 1 sample population. The Version 2 population should be large enough to publish State level data for the 25 core States. The remaining 25 States that will be included in the survey will have their data combined in the all other States category, so that US level estimates can be published.

Data collection for both Versions should begin around January 1, 2025, using 2024 as the reference period. A final report is targeted to be published in October 2025.

Authority: The Tenure, Ownership and Transition of Agricultural Land (TOTAL) surveys are required by law under the “Census of Agriculture Act of 1997,” Public Law 105-113, 7 U.S.C. 2204(g) as amended. These data will be collected under the authority of 7 U.S.C. 2204(a). Individually identifiable data collected under this authority are governed by section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

All NASS employees and NASS contractors must also fully comply with all provisions of the Confidential Information Protection and Statistical Efficiency Act (CIPSEA) of 2018, title III of Public Law 115-435, codified in 44 U.S.C. ch. 35. CIPSEA supports NASS's pledge of confidentiality to all respondents and facilitates the agency's efforts to reduce burden by supporting statistical activities of collaborative agencies through designation of NASS agents, subject to the limitations and penalties described in CIPSEA. NASS uses the information only for statistical purposes and publishes only tabulated total data.

These data are used by Congress when developing, updating, or changing farm programs. These data will also be used to produce estimates of sector-wide production expenditures and other components of income that are used in constructing the estimates of income and value-added which are transmitted to the U.S. Department of Commerce, Bureau of Economic Analysis, by the USDA Economic Research Service (ERS) for use in constructing economy-wide estimates of Gross Domestic Product. The data will also be used to construct demographic data on the owners and operators of farm land in the United States and their potential transition strategies.

Many national and state programs are designed or allocated based on these data. Farm operators, landlords, and financial institutions rely on these data to make informed business decisions when selling or renting land, applying for business loans, or making decisions on expanding or diversifying their operations.

Estimate of Burden: Public reporting burden for Version 1 (farm operators) is estimated to average 100 minutes per response. Public reporting burden for Version 2 (landlords only) is estimated to average 30 minutes per response. Multiple data collection modes will be incorporated to help minimize data collection costs. The questionnaires will be available on the internet to the targeted sample. NASS will mail the questionnaires to the respondents at least twice and may use autodial or a postcard reminder, before attempting phone or personal interviews to collect the data.

Respondents: Version 1—farm operators: Version 2 landlords who rent out farm land but do not operate farms.

Estimated Number of Respondents: 45,600 farm or ranch operators and 44,000 landlords who do not operate farms or ranches.

Estimated Total Annual Burden on Respondents: 114,500 hours. In order to minimize data collection costs, NASS will attempt to collect data by utilizing an internet version of the questionnaire as well as the U.S. Postal Service. NASS will then attempt to collect the data from non-respondents by either phone or personal enumeration. With the initial mailing, respondents will be provided with instructions on how to access the internet and complete the questionnaire on line.

The primary objectives of the National Agricultural Statistics Service are to prepare and issue State and national estimates of crop production, livestock production, economic statistics, and environmental statistics related to agriculture and to conduct the Census of Agriculture and its follow-on surveys, which includes the TOTAL surveys.

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, February 14, 2024.
Joseph L. Parsons,
Associate Administrator.

[FR Doc. 2024-04832 Filed 3-6-24; 8:45 am]

BILLING CODE 3410-20-P